DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action by Trade Adjustment Assistance for Period March 20, 2002—April 18, 2002
Firm name | Address | Date petition accepted | Product
RST & B Quilting and Bedding, Inc | 325 Greer Road, Florence, SC 29506 | 04/01/02 | Bedding items, comforters, pillow shams and ruffles.
Bulk Lift International, Inc | 1013 Tamarac Drive, Carpentersville, IL 60110 | 04/01/02 | Flexible intermediate bulk bags of textile materials.
Acutek, Inc | 777 Action Avenue, Odessa, MO 64076 | 04/01/02 | Sealed beam lamps and plastic warning lamp reflectors used in recreational, automotive and commercial applications.
Advantage Control, Inc | 4700 Haroll Abitz Drive, Muskogee, OK 74403 | 04/02/02 | Controllers and pumps used for industrial water treatment.
Heartfelt Connections, Inc | 2415 7th Avenue West, Seattle, WA 98119 | 04/02/02 | Gift items—pillows, sachets, scarves, pins, blankets, bibs, etc.
General Die Finishing, Inc | 1504A Quarry Drive, Edgewood, MD 21040 | 04/18/02 | Metal finishing and conversion coating for the aerospace industry.
Pace Precision Products, Inc | Ohio Avenue, DeBois, PA 15801 | 04/02/02 | Metal stampings and dies use in the automotive industry.
Herkules Equipment Corporation | 2760 Ridgeway Court, Walled Lake, MI 48390 | 04/02/02 | Paint gun washers, pneumatic lifts, crushers, infra-red systems, air jacks, dust retention systems, and their parts.
Koester Metals, Inc | 1441 Quality Drive, Defiance, OH 43512 | 04/02/02 | Fabricated steel enclosures for the housing of control devices.
Biovance Technologies, Inc | 14050 N. 78th Street, Omaha, NE 68122 | 04/03/02 | Cattle feed.
Procedyne Corp | 11 Industrial Drive, New Brunswick, NJ 08901 | 04/09/02 | Fluid bed furnaces.
Precision Machine and Manufacturing Co | 500 Industrial Road, Grove, OK 74344 | 04/18/02 | Aircraft fuselage components, including ribs, tracks, beams, supports and bulkheads.
Mel-Co-Ed, Inc | 381 Roosevelt Avenue, Pawtucket, RI 02860 | 04/18/02 | Jewelry findings.
J. C., Ltd | 40 John Williams Street, Attleboro, MA 02703 | 04/18/02 | Jewelry findings.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: April 22, 2002.
Anthony J. Meyer,
Coordinator, Trade Adjustment and Technical Assistance.

[FR Doc. 02-10679 Filed 4-30-02; 8:45 am]

BILLING CODE 3510-24-P